DEPARTMENT OF HEALTH AND HUMAN SERVICES

Centers for Disease Control and Prevention

[30Day-06-0576]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974.

Notice of Correction

Title of Project

Possession, Use, and Transfer of Select Agents and Toxins (OMB Control No. 0920-0576)—Extension—Office of the Director (OD), Centers for Disease Control and Prevention (CDC).

Description of Correction

Due to a clerical oversight, the closing date of the 30-day Federal Register Notice (FRN) under 30dy-06-0576 published on January 24, 2006 will be used as the official 30-day for the OMB submission printed under that notice number. The closing date of the 30-day FRN under 30dy-06-0576 dated February 8, 2006 will not be used. The second 30-day FRN was inadvertently published, so please disregard the second closing date.

Comments will be considered until COB of February 24, 2006 and not March 8, 2006.

Dated: February 21, 2006.
Joan F. Karr,
Acting Reports Clearance Officer, Centers for Disease Control and Prevention.

[FR Doc. 06-1779 Filed 2-23-06; 8:45 am]

BILLING CODE 4163-18-P